DEPARTMENT OF LABOR

Office of the Secretary

Submission for OMB Review: Comment Request

March 2, 2005.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or e-mail: king.darrin@dol.gov.

Comments should be sent to Office of Information and Regulatory Affairs, Attn: OMB Desk Officer for the Employment Standards Administration (ESA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension of currently approved collection.

Title: Employment Under Special Certificate of Apprentices, Messengers and Learners (including Student Learners).

OMB Number: 1215-0192.

Form Numbers: WH-205 and WH-209.

Frequency: On occasion and Annually.

Type of Response: Recordkeeping and Reporting.

Affected Public: Business or other for-profit; Individuals or households; Not-for-profit institutions; and State, Local, or Tribal Government.

Number of Respondents: 929.

Number of Annual Responses: 929.

Estimated Average Response Time: 30 minutes for Form WH-205 and 20 minutes for Form WH-209.

Total Annual Burden Hours: 465.

Total Annualized capital/startup costs: $0.

Total Annual Costs (operating/maintaining systems or purchasing services): $390.

Description: Fair Labor Standards Act (FLSA) 14(a) requires that the Secretary of Labor, to the extent necessary to prevent curtailment of employment opportunities, provide by regulations or orders for the employment of categories of workers who, under special certificates, may be paid less than the statutory minimum wage. This section also authorizes the Secretary to set limitations on such employment as to time, number, proportion and length of service. These workers include apprentices, messengers and learners, including student-learners and student-workers. Regulations found at 29 CFR Part 520 contain the provisions that implement the FLSA 14(a) requirements. Form WH-205 is the application an employer uses to obtain a certificate to employ student-learners at wages lower than the general federal minimum wage. Form WH-209 is the application an employer uses to request a certificate authorizing the employer to employ learners and/or messengers at subminimum wage rates. There is no application form that employers complete to obtain authority from DOL to employ apprentices at subminimum wages.

Ira L. Mills,
Departmental Clearance Officer.

[FR Doc. E6-3250 Filed 3-7-06; 8:45 am]

BILLING CODE 4510-27-P